FEDERAL ELECTION COMMISSION

Sunshine Act Meeting

AGENCY: Federal Election Commission

DATE AND TIME: Tuesday, April 21, 2015 at 10:00 a.m. and its continuation on Thursday, April 23, 2015 at the conclusion of the open meeting.

PLACE: 999 E Street NW., Washington, DC.

STATUS: This meeting will be closed to the public.

Federal Register Notice of Previous Announcement—80 FR 20496

Change in the Meeting: This meeting was continued at 12:00 p.m. on April 22, 2015 rather than at the conclusion of the Open Meeting on April 23, 2015.

* * * * *

FOR FURTHER INFORMATION CONTACT: Person to Contact for Information: Judith Ingram, Press Officer, Telephone: (202) 694-1220.

Shelley E. Garr,
Deputy Secretary.

[FR Doc. 2015-09738 Filed 4-23-15; 11:15 am]

BILLING CODE 6715-01-P